NUCLEAR REGULATORY COMMISSION

Advisory Committee on Reactor Safeguards; Subcommittee Meeting on Thermal-Hydraulic Phenomena; Notice of Meeting

The ACRS Subcommittee on Thermal-Hydraulic Phenomena will hold a meeting on February 14-16, 2006, Room T-2B3, 11545 Rockville Pike, Rockville, Maryland.

The entire meeting will be open to public attendance, with the exception of portions that may be closed to discuss that is proprietary to various equipment vendors pursuant to 5 U.S.C. 552b(c)(4).

The agenda for the subject meeting shall be as follows:

Tuesday, February 14, 2006—8:30 a.m. until the conclusion of business.

Wednesday, February 15, 2006—8:30 a.m. until the conclusion of business.

Thursday, February 16, 2006—8:30 a.m. until the conclusion of business.

The Subcommittee will discuss and hear a briefing from the NRC staff, the Nuclear Energy Institute (NEI), and other interested stakeholders regarding recent work related to chemical effects in containment sumps during loss of coolant accident events, and licensee responses to Generic Letter 2004-02 concerning pressurized water reactor sumps. The Subcommittee will hear presentations by and hold discussions with representatives of the NRC staff, NEI, licensees, contractors, and other interested persons regarding this matter.

The Subcommittee will gather information, analyze relevant issues and facts, and formulate proposed positions and actions, as appropriate, for deliberation by the full Committee.

Members of the public desiring to provide oral statements and/or written comments should notify the Designated Federal Official, Mr. Ralph Caruso (Telephone: 301-415-8065) five days prior to the meeting, if possible, so that appropriate arrangements can be made. Electronic recordings will be permitted only during those portions of the meeting that are open to the public.

Further information regarding this meeting can be obtained by contacting the Designated Federal Official between 7:30 a.m. and 4:15 p.m. (ET). Persons planning to attend this meeting are urged to contact the above named individual at least two working days prior to the meeting to be advised of any potential changes to the agenda.

Dated: February 1, 2006.
Michael L. Scott,
Branch Chief, ACRS/ACNW.

[FR Doc. E6-1628 Filed 2-6-06; 8:45 am]

BILLING CODE 7590-01-P